DEPARTMENT OF LABOR

Employment and Training Administration

[TA-W-40,099]

Shasta Paper Company, Shasta Acquisition, Plainwell Paper, Anderson, CA; Amended Certification Regarding Eligibility To Apply for Worker Adjustment Assistance

In accordance with section 223 of the Trade Act of 1974 (19 U.S.C. 2273) the Department of Labor issued a Certification of Eligibility to Apply for Worker Adjustment Assistance on January 17, 2002, applicable to workers of Shasta Paper Company, Anderson, California. The notice was published in the Federal Register on January 31, 2002 (67 FR 4750).

At the request of the State agency, the Department reviewed the certification for workers of the subject firm. The workers are engaged in the production of coated and uncoated printing paper.

New information shows that Shasta Acquisition is the parent firm of Shasta Paper Company and Plainwell Paper. Information also shows that some workers separated from employment at the subject firm had their wages reported under two separate unemployment insurance (UI) tax accounts; Shasta Acquisition and Plainwell Paper.

Accordingly, the Department is amending the certification to properly reflect this matter.

The intent of the Department's certification is to include all workers of Shasta Paper, Anderson, California who were adversely affected by increased imports.

The amended notice applicable to TA-W-40,099 is hereby issued as follows:

All workers of Shasta Paper Company, Shasta Acquisition and Plainwell Paper, Anderson, California, engaged in the production of coated and uncoated printing paper, who became totally or partially separated from employment on or after September 4, 2000, through January 17, 2004, are eligible to apply for adjustment assistance under Section 223 of the Trade Act of 1974.

Signed at Washington, DC this 25th day of July, 2002.
Edward A. Tomchick,
Director, Division of Trade Adjustment Assistance.

[FR Doc. 02-20193 Filed 8-8-02; 8:45 am]

BILLING CODE 4510-30-P